Title 3—

The President

Executive Order 14025 of April 26, 2021

Worker Organizing and Empowerment

By the authority vested in me as President by the Constitution and the laws of the United States of America, it is hereby ordered as follows:

Section 1. Policy and Findings. The National Labor Relations Act (29 U.S.C. 151) proclaims that the policy of the United States is to encourage worker organizing and collective bargaining and to promote equality of bargaining power between employers and employees. In the Federal Service Labor-Management Relations Statute (5 U.S.C. 7101(a)(1)), the Congress found that “experience in both private and public employment indicates that the statutory protection of the right of employees to organize, bargain collectively, and participate through labor organizations of their own choosing in decisions which affect them . . . safeguards the public interest, . . . contributes to the effective conduct of public business, and . . . facilitates and encourages the amicable settlements of disputes between employees and their employers involving conditions of employment.”

In the past few decades, the Federal Government has not used its full authority to promote and implement this policy of support for workers organizing unions and bargaining collectively with their employers. During this period, economic change in the United States and globally, technological developments, and the failure to modernize Federal organizing and labor-management relations laws to respond appropriately to the reality found in American workplaces, have made worker organizing exceedingly difficult.

The result has been a steady decline in union density in the United States and the loss of worker power and voice in workplaces and communities across the country. This decline has had a host of negative consequences for American workers and the economy, including weakening and shrinking America's middle class. Meanwhile, some workers have been excluded from opportunities to organize unions and bargain collectively with their employers by law or practice, and so have never been able to build meaningful economic power or have a voice in their workplaces.

Confirming the policies declared in Federal labor laws, substantial evidence shows that union membership increases wages, the likelihood of receiving employer-provided benefits, and job security. Union membership also gives workers the means to build the power to ensure that their voices are heard in their workplaces, their communities, and in the Nation.

Therefore, it is the policy of my Administration to encourage worker organizing and collective bargaining.

Sec. 2. Task Force on Worker Organizing and Empowerment. There is hereby established within the Executive Office of the President the Task Force on Worker Organizing and Empowerment (Task Force).

(a) The Vice President shall serve as Chair of the Task Force. In addition to the Vice President, the Task Force shall consist of the following officials or their designees:

(i) the Secretary of Labor, who shall serve as Vice Chair of the Task Force;

(ii) the Secretary of the Treasury;

(iii) the Secretary of Defense;

(iv) the Secretary of the Interior;

(v) the Secretary of Agriculture;

(vi) the Secretary of Commerce;

(vii) the Secretary of Health and Human Services;

(viii) the Secretary of Housing and Urban Development;

(ix) the Secretary of Transportation;

(x) the Secretary of Energy;

(xi) the Secretary of Education;

(xii) the Secretary of Veterans Affairs;

(xiii) the Secretary of Homeland Security;

(xiv) the Administrator of the Environmental Protection Agency;

(xv) the Administrator of General Services;

(xvi) the Administrator of the Small Business Administration;

(xvii) the United States Trade Representative;

(xviii) the Director of the Office of Management and Budget;

(xix) the Director of the Office of Personnel Management;

(xx) the Chair of the Council of Economic Advisers;

(xxi) the Assistant to the President for Domestic Policy;

(xxii) the Assistant to the President for Economic Policy;

(xxiii) the Assistant to the President and National Climate Advisor; and

(xxiv) the heads of such other executive departments, agencies, and offices as the President may from time to time designate upon the recommendation of the Chair of the Task Force.

(b) The Task Force and its members shall identify executive branch policies, practices, and programs that could be used, consistent with applicable law, to promote my Administration's policy of support for worker power, worker organizing, and collective bargaining. This identification shall include policies, practices, and programs that could be used to promote worker power in areas of the country with hostile labor laws, for marginalized workers (including women and persons of color) and hard-to-organize industries, and in changing industries. The Task Force and its members also shall identify statutory, regulatory, or other changes that may be necessary to make policies, practices, and programs more effective means of supporting worker organizing and collective bargaining.

(c) The functions of the Task Force are advisory in nature only; the purpose of the Task Force is to make recommendations regarding changes to policies, practices, programs, and other changes that would serve the objectives of this order.

(d) The Task Force should invite the National Labor Relations Board, the Federal Labor Relations Authority, the National Mediation Board, and other executive agencies, boards, and commissions with responsibility for implementing laws concerning worker organizing and collective bargaining to consult, as appropriate and consistent with applicable law, with the Task Force.

(e) The Chair may establish such sub-committees or other working groups composed of Task Force members or their representatives as may be necessary to accomplish the objectives of this order.

(f) Consistent with the objectives of this order and applicable law, the Task Force may gather relevant information from labor organizations, other worker advocates, academic and other experts, and other entities and persons it identifies that will assist the Task Force in accomplishing the objectives of this order.

(g) The Task Force shall, within 180 days of the date of this order, submit to the President recommendations for actions as described in subsection (b) of this section to promote worker organizing and collective bargaining in the public and private sectors, and to increase union density. The Task Force may, at the Chair's discretion, recommend appropriate or time-sensitive individual actions to promote worker organizing and collective bargaining before the deadline established by this section. The Task Force and its members shall work to implement all recommendations that the President may approve, to the extent permitted by law, and shall report their progress as directed by the Chair.

Sec. 3. Definitions. For purposes of this order:

(a) “Policies, practices, and programs” includes regulations; guidance and other formal policy documents; procurements; grants and other direct or indirect Federal investments; tax and trade administration and enforcement; administration and enforcement of labor, employment, and other relevant laws; property management; and human resources management and labor relations.

(b) “Worker organizing and collective bargaining” encompasses the private sector, State and local governments, and the Federal Government. It also includes those sectors of the economy and those workers who have not historically been able to unionize, or whose ability to effectively collectively bargain or organize has been undermined.

(c) the term “agency” refers to all agencies described in section 3502(1) of title 44, United States Code, except for the agencies described in section 3502(5) of title 44.

Sec. 4. Revocations. (a) Executive Order 13845 of July 19, 2018 (Establishing the President's National Council for the American Worker), and Executive Order 13931 of June 26, 2020 (Continuing the President's National Council for the American Worker and the American Workforce Policy Advisory Board), are revoked.

(b) The Director of the Office of Management and Budget and the heads of executive departments and agencies shall promptly consider taking steps to rescind any orders, rules, regulations, guidelines, or policies, or portions thereof, implementing or enforcing Executive Order 13845 or Executive Order 13931, as appropriate and consistent with applicable law, including the Administrative Procedure Act (5 U.S.C. 551 et seq.). In addition, they shall abolish any personnel positions, committees, task forces, or other entities established pursuant to Executive Order 13845 or Executive Order 13931, as appropriate and consistent with applicable law.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 26, 2021.

[FR Doc. 2021-09213

Filed 4-28-21; 11:15 am]

Billing code 3295-F1-P